ENVIRONMENTAL PROTECTION AGENCY

[FRL-12120-01-OAR]

2025 Clean Air Excellence Awards Program; Request for Nominations

Correction

In Notice document, 2024-16156, appearing on pages 59735 through 59736 in the issue of Tuesday July 23, 2024, on page 59735, in the second column, in the second line and first lines from the bottom, the text “October 11, 2024” is corrected to read “October 22, 2024”.

[FR Doc. C1-2024-16156 Filed 8-15-24; 8:45 am]

BILLING CODE 0099-10-P